DEPARTMENT OF TRANSPORTATION

Federal Aviation Administration

14 CFR Part 71

[Docket No. FAA-2005-22024; Airspace Docket No. 05-AAL-38]

RIN-2120-AA66

Modification of the Norton Sound Low, Woody Island Low and 1234L Offshore Airspace Areas; AK

Correction

In rule document 06-2112 beginning on page 11298 in the issue of Tuesday, March 7, 2006, make the following correction:

§71.1 [Corrected]

On page 11299, in the third column, in §71.1, under the heading Woody Island Low, AK [Amended], in the seventh line, “153°0′00″” should read “153°00′00″ ”.

[FR Doc. C6-2112 Filed 3-15-06; 8:45 am]

BILLING CODE 1505-01-D